DEPARTMENT OF HOMELAND SECURITY

Coast Guard

33 CFR Part 100

[CGD05-06-013]

RIN 1625-AA08

Special Local Regulations for Marine Events; St. Mary's River, St. Mary's City, MD

AGENCY: Coast Guard, DHS.

ACTION: Notice of enforcement of regulation.

SUMMARY: The Coast Guard is implementing the special local regulations at 33 CFR 100.527 for intercollegiate crew races, marine events to be held April 8, 2006, on the waters of the St. Mary's River at St. Mary's City, Maryland. These special local regulations are necessary to control vessel traffic due to the confined nature of the waterway and expected vessel congestion during the event. The effect will be to restrict general navigation in the regulated area for the safety of event participants, spectators and vessels transiting the event area.

DATES: 33 CFR 100.527 will be enforced from 7 a.m. to 4 p.m. on April 8, 2006.

FOR FURTHER INFORMATION CONTACT: Ronald Houck, Marine Events Coordinator, Commander, Coast Guard Sector Baltimore, 2401 Hawkins Point Road, Baltimore, MD 21226-1971, and (410) 576-2674.

SUPPLEMENTARY INFORMATION: St. Mary's College of Maryland will sponsor the Seahawk Sprint crew races on the waters of the St. Mary's River. The events will consist of intercollegiate crew rowing teams racing along a 2000 meter course on the waters of the St. Mary's River. A fleet of spectator vessels is expected to gather near the event site to view the competition. In order to ensure the safety of participants, spectators and transiting vessels, 33 CFR 100.527 will be enforced for the duration of the event. Under provisions of 33 CFR 100.527, vessels may not enter the regulated area without permission from the Coast Guard Patrol Commander. Spectator vessels may anchor outside the regulated area but may not block a navigable channel. Because these restrictions will be in effect for a limited period, they should not result in a significant disruption of maritime traffic.

In addition to this notice, the maritime community will be provided extensive advance notification via the Local Notice to Mariners, and marine information broadcasts so mariners can adjust their plans accordingly.

Dated: February 22, 2006.
Larry L. Hereth,
Rear Admiral, U.S. Coast Guard, Commander, Fifth Coast Guard District.

[FR Doc. 06-2205 Filed 3-8-06; 8:45 am]

BILLING CODE 4910-15-P